DEPARTMENT OF THE INTERIOR

Minerals Management Service

Environmental Documents Prepared for Proposed Oil and Gas Operations on the Gulf of Mexico Outer Continental Shelf (OCS)

AGENCY: Minerals Management Service (MMS), Interior.

ACTION: Notice of the availability of environmental documents prepared for OCS mineral proposals on the Gulf of Mexico (GOM) OCS.

SUMMARY: MMS in accordance with Federal Regulations that implement the National Environmental Policy Act (NEPA) announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the GOM OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the GOM OCS Region prepared a FONSI in the period subsequent to publication of the preceding notice.

Activity/operator | Location | Date
Samedan Oil Corporation, Structure Removal SEA ES/SR 03-210, 03-211, 03-212 | East Cameron, Block 66, Lease OCS-G 04417, located 23 miles from the nearest Louisiana shoreline | 01/06/04
Marathon Oil Corporation, Initial Exploration Plan SEA N-7910 | DeSoto Canyon, Block 354, Lease OCS-G 23507, located 80 miles from the nearest Louisiana shoreline | 01/14/04
LLOG Exploration Offshore, Inc., Supplemental Development Operations Coordination Plan SEA S-6308 | High Island, Block A-367, Lease OCS-G 23222, located 124 miles from the nearest Texas shoreline | 01/29/04
C & C Technologies, Inc., Geological & Geophysical Exploration Plan for BHP Billiton (Americas) Inc. SEA L04-01 | Located in the central Gulf of Mexico south of the eastern Louisiana shoreline | 02/05/04
TDI-Brooks International, Geological & Geophysical Exploration Plan for Shell Exploration SEA M04-01 | Located in the eastern Gulf of Mexico east of the Freeport, Texas shoreline | 02/05/04
BP America Production Company, Inc., Structure Removal SEA ES/SR 04-002 | West Cameron, Block 71, Lease OCS-00244, located 10 miles from the nearest Louisiana shoreline | 02/09/04
Bois d'Arc offshore, Ltd, Structure Removal SEA ES/SR 04-003, 04-004 | South Timbalier, Block 50, Lease OCS-G 04119, located 10 miles from the nearest Louisiana shoreline | 02/11/04
El Paso Production Oil & Gas Company, Structure Removal SEA ES/SR 04-005 | Viosca Knoll, Block 24, Lease OCS-G 08763, located 17 miles from the nearest Louisiana shoreline | 02/17/04
Bois d'Arc Offshore, Ltd, Structure Removal SEA ES/SR 03-198 | South Timbalier, Block 34, Lease OCS-G 04842, located 5 miles from the nearest Louisiana shoreline | 02/19/04
Bois d'Arc Offshore, Ltd, Structure Removal SEA ES/SR 04-006, 04-007 | South Timbalier, Block 34, Lease OCS-G 04842, located 5 miles from the nearest Louisiana shoreline | 02/19/04
Walter Oil & Gas Corporation, Structure Removal SEA ES/SR 04-009 | East Cameron (South Addition), Block 111, Lease OCS-G 12845, located 81 miles from the nearest Vermilion Parish, Louisiana shoreline | 02/25/04
Coastal Planning & Engineering, Inc., Geological & Geophysical Exploration Plan for Galveston & Jefferson Counties, TX SEA T04-04 | Located in the western Gulf of Mexico east of Galveston & Jefferson Counties, Texas | 02/26/04
Chevron, U.S.A., Inc., Lease-Term Pipeline SEA P-14470 | Grand Isle, Block 37, Lease OCS-G 00392, closest distance is located 3 miles from the nearest Louisiana shoreline | 03/01/04
C & C Technologies, Inc., Geological & Geophysical Exploration Plan for Kerr McGee Oil & Gas Company SEA L04-04 | Located in the central Gulf of Mexico south of the nearest eastern Louisiana shoreline | 03/03/04
Union Oil Company of California, Structure Removal SEA ES/SR 04-021 | East Cameron, Block 62, Lease OCS-G 13574, located 19 miles from the nearest Louisiana shoreline | 03/04/04
Devon Energy Corporation, Structure Removal SEA ES/SR 04-012 | Galveston, Block 362, Lease OCS-G 14841, located 18 miles from the nearest Texas shoreline | 03/04/04
Devon Energy Corporation, Structure Removal SEA ES/SR 04-015 | West Cameron, Block 165, Lease OCS-G 00758, located 25 miles from the nearest Louisiana shoreline | 03/04/04
Devon Energy Corporation, Structure Removal SEA ES/SR 04-013, 04-014 | West Cameron, Block 20, Lease OCS-G 00680, located 5 miles from the nearest Louisiana shoreline | 03/11/04
Devon Louisiana Corporation, Structure Removal SEA ES/SR 04-010 | Brazos, Block 377, Lease OCS-G 14803, located 13 miles from the nearest Texas shoreline | 03/17/04
Devon Louisiana Corporation, Structure Removal SEA ES/SR 04-011 | Brazos, Block 552, Lease OCS-G 11283, located 18 miles from the nearest Texas shoreline | 03/17/04
Walter Oil & Gas Corporation, Structure Removal SEA ES/SR 04-035 | High Island, Block 200, Lease OCS-G 09086, located 33 miles from the nearest Texas shoreline | 03/17/04
Canyon Offshore, Inc., Geological & Geophysical Exploration Plan for BP Exploration & Production, Inc. SEA L04-05 | Located in the central Gulf of Mexico south of the nearest eastern Louisiana shoreline | 03/17/04
C & C Technologies, Inc., Geological & Geophysical Exploration Plan for Shell International Exploration & Production, Inc. SEA T04-07 | Located in the central Gulf of Mexico south of the eastern Louisiana shoreline | 03/17/04
SPN Resources, L.L.C., Structure Removal SEA ES/SR RA-2004-01 | Mobile, Block 864, Lease OCS-G 05064, located 6 miles from the nearest Alabama shoreline | 03/17/04
Chevron U.S.A., Inc., Structure Removal SEA ES/SR 04-016, 04-017 | Mobile, Block 945, Lease OCS-G 07847; Viosca Knoll, Block 27, Lease OCS-G 06868; located 15 miles from the nearest Mississippi shoreline and located 18 miles from the nearest Louisiana shoreline, respectively | 03/17/04
Energy Resource Technology, Inc., Structure Removal SEA ES/SR 04-031, 04-032, 04-033, 04-034 | South Marsh Island, Ship Shoal, Vermilion, West Cameron; Blocks 15, 220, 171, 202; Leases OCS-G 09534, 12950, 01130, 05182, respectively; located 34 to 40 miles from the nearest Louisiana shoreline | 03/17/04
J. M. Huber Corporation, Structure Removal SEA ES/SR 04-018, 04-019 | South Timbalier, Block 28, Lease OCS-G 01362, located 5 miles from the nearest Louisiana shoreline | 03/17/04
Samedan Oil Corporation, Structure Removal SEA ES/SR 04-022, 04-023, 04-024, 04-025 | West Cameron (South Addition), Blocks 445, 463, Leases OCS-G 09423, 04093; High Island (East Addition), Blocks A232, A244, Leases OCS-G 21353, 05010, located 70 to 75 miles south of the nearest Texas shoreline and 80 miles south of the nearest Louisiana shoreline | 03/17/04
Samedan Oil Corporation, Structure Removal SEA ES/SR 04-036 | Vermilion (South), Block 336, Lease OCS-G 13892, located 90 miles from the nearest Louisiana shoreline | 03/23/04
Anadarko Petroleum Corporation, Structure Removal SEA ES/SR 04-037 | South Marsh, Block 241, Lease OCS-310, located 15 miles from the nearest Louisiana shoreline | 03/24/04
Devon Energy Corporation, Structure Removal SEA ES/SR 04-038 | West Cameron (South Addition), Block 533, Lease OCS-G 02225, located 90 miles southwest from the nearest Louisiana shoreline | 03/24/04
Newfield Exploration Company, Structure Removal SEA ES/SR 04-042 | West Cameron (South), Block 535, Lease OCS-G 15109, located 97 miles from the nearest Louisiana shoreline | 03/29/04
Union Oil Company of California, Structure Removal SEA ES/SR 04-041 | West Cameron (West), Block 297, Lease OCS-G 15077, located 27 miles from the nearest Louisiana shoreline | 03/29/04
BP America Production Company, Structure Removal SEA ES/SR 04-043 | West Cameron, Block 36, Lease OCS-G 11753, located 7 miles from the nearest Louisiana shoreline | 03/30/04
Devon Louisiana Corporation, Structure Removal SEA ES/SR 04-029, 04-030 | Eugene Island, Block 129, Lease OCS-G 00054, located 29 miles from the nearest Louisiana shoreline | 03/31/04
Devon Louisiana Corporation, Structure Removal SEA ES/SR 04-026 | Galveston, Block 393, Lease OCS-G 03741, located 23 miles from the nearest Texas shoreline | 03/31/04
Devon Louisiana Corporation, Structure Removal SEA ES/SR 04-027 | Galveston, Block 420, Lease OCS-G 14146, located 22 miles from the nearest Texas shoreline | 03/31/04
Devon Louisiana Corporation, Structure Removal SEA ES/SR 04-028 | High Island, Block 140, Lease OCS-G 00518, located 17 miles from the nearest Texas shoreline | 03/31/04

Persons interested in reviewing environmental documents for the proposals listed above, or obtaining information about SEAs and FONSIs prepared for activities on the GOM OCS are encouraged to contact MMS.

Dated: May 27, 2004.
Chris C. Oynes,
Regional Director, Gulf of Mexico OCS Region.

[FR Doc. 04-14722 Filed 6-28-04; 8:45 am]

BILLING CODE 4310-MR-P